DEPARTMENT OF THE INTERIOR

Bureau of Indian Affairs

Liquor Control Ordinance for the Manchester Band of Pomo Indians of the Manchester-Point Arena Rancheria

AGENCY: Bureau of Indian Affairs, Interior.

ACTION: Notice.

SUMMARY: This notice publishes the Liquor Control Ordinance of the Manchester Band of Pomo Indians of the Manchester-Point Arena Rancheria. The Ordinance regulates and controls the possession, sale and consumption of liquor within the Manchester-Point Arena Rancheria tribal land. The tribal land is located on trust land and this Ordinance allows for the possession and sale of alcoholic beverages. This Ordinance will increase the ability of the tribal government to control the distribution and possession of liquor within their tribal land, and at the same time will provide an important source of revenue and strengthening of the tribal government and the delivery of tribal services.

DATES: Effective Date: This Ordinance is effective July 13, 2010.

FOR FURTHER INFORMATION CONTACT: Fred Doka Jr., Tribal Operations Officer, Pacific Regional Office, 2800 Cottage Way, Sacramento, CA 95825, Telephone (916) 978-6067; or Elizabeth Colliflower, Office of Tribal Services, 1849 C Street, NW., Mail Stop 4513-MIB, Washington, DC 20240; Telephone (202) 513-7641; Fax (202)-501-0679.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Business Committee for the Manchester Band of Pomo Indians adopted this liquor control ordinance on May 30, 2009. The purpose of this Ordinance is to govern the sale, possession and distribution of alcohol within the Manchester-Point Arena Rancheria tribal land. This notice is published in accordance with the authority delegated by the Secretary of the Interior to the Assistant Secretary-Indian Affairs. I certify that this Liquor Control Ordinance of the Manchester Band of Pomo Indians of the Manchester-Point Arena Rancheria was duly adopted by Resolution No. 2009-502-30-09 by the Tribe's Business Committee on May 30, 2009.

Dated: July 2, 2010.
Del Laverdure,
Deputy Assistant Secretary—Indian Affairs.

The Liquor Control Ordinance for the Manchester Band of Pomo Indians of the Manchester-Point Arena Rancheria reads as follows:

ORDINANCE GOVERNING THE SALE, CONSUMPTION, AND POSSESSION OF ALCOHOLIC BEVERAGES AT THE TRIBE'S CASINO

Sale, Possession, and Consumption of Alcoholic Beverages

The Business Committee of the Manchester Band of Pomo Indians (hereinafter “Tribe”), hereby enacts this Ordinance to govern the sale and consumption of alcoholic beverages on Rancheria lands in Mendocino County, California.

Preamble

A. Title 18, United States Code, Section 1161, provides Indian tribes with authority to enact ordinances governing the consumption and sale of alcoholic beverages on their Reservations provided such ordinance is certified by the Secretary of the Interior and published in the Federal Register and such activities are in conformity with state law.

B. Pursuant to Article III of the Tribe's Constitution, the Community Council is the governing body of the Tribe. Pursuant to Resolution #0025 of the Community Council, dated 12-17-81, the Community Council delegated to the Business Committee full authority to promulgate ordinances as it finds necessary to the safe and productive environment on the Rancheria and for the Tribe's members, its economic development projects. Pursuant to that delegation of authority, and to the inherent authority of the Tribe and its members, the Business Committee is empowered to promulgate and enforce tribal laws exercising the Tribe's regulatory authority, to manage all economic affairs and enterprises of the Tribe for the protection of public health and safety, to administer all lands and assets and manage all economic affairs, planning and enterprises of the Tribe, and to regulate the conduct of all persons who enter the jurisdiction of the Tribe.

C. Pursuant to Article I of the Tribe's Constitution, the territorial jurisdiction of the Tribe includes the territory within the confines of the Manchester Rancheria, and such other lands as may hereafter be added thereto under any law of the United States.

D. The Casino will be an integral and indispensable part of the Tribe's economy, providing income to the Tribe and training and employment to its members. The Tribe has determined that it is in the Tribe's best interest to offer alcoholic beverages for sale and consumption in the Casino.

E. It is the purpose of this Ordinance to set out the terms and conditions under which the sale and consumption of said alcoholic beverages may take place at the Casino.

General Terms

1. The sale of alcoholic beverages within the Casino, for on-Premises (within the Casino) consumption only, is hereby authorized.

2. No alcoholic beverages may be sold at any location on the Rancheria other than inside the Casino.

3. The sale of said alcoholic beverages authorized by this Ordinance shall be in conformity with all applicable laws of the State of California, and the sale of said beverages shall be subject to state sales tax, federal excise tax and any fees required by the Federal Bureau of Alcohol, Tobacco & Firearms. This includes but is not limited to the following examples:

a. No person under the age of 21 years shall consume, acquire or have in his or her possession at the Casino any alcoholic beverage.

b. No person shall sell alcohol to any person under the age of 21 at the Casino.

c. No person shall sell alcohol to a person apparently under the influence of alcohol at the Casino.

4. Where there may be a question of a person's right to purchase alcohol by reason of his or her age, such person shall be required to present any one of the following types of identification which shows his or her correct age and bears his or her signature and photograph: (1) Driver's license or identification card issued by any state Department of Motor Vehicles; (2) United States Active Duty Military card; (3) passport.

5. All alcohol sales within the Casino shall be on a cash only basis and no credit shall be extended to any person, organization or entity, except that this provision does not prevent the use of major credit cards.

Posting

6. This Ordinance shall be conspicuously posted within the Casino at all times it is open to the public.

Enforcement

7. This Ordinance may be enforced by the Business Committee and by any additional tribal government agencies to which the Business Committee or Community Council may from time to time by resolution delegate such enforcement powers. Enforcement sanctions may include, but are not limited to, the assessment of monetary fines not to exceed $500 and revocation of authorization to sell alcohol at the Casino. Prior to any enforcement action, any alleged violator of this Ordinance shall be provided with at least three (3) days notice in writing of an opportunity to be heard during a hearing at which due process is provided. The decision of the Business Committee or other agency with delegated authority after such hearing shall be final.

Severability

8. If any provision or application of this Ordinance is determined by the Business Committee, Community Councilor other agency with delegated authority to be invalid, such adjudication shall not be held to render ineffectual the remaining portions of this Ordinance or to render such provisions inapplicable to other circumstances.

Amendment

9. This Ordinance may only be amended by a majority vote of the Business Committee or Community Council and such amendment shall be subject to the provisions of Title 18, United States Code, Section 1161.

Sovereign Immunity

10. Nothing in this Ordinance in any way limits, alters, restricts or waives the Tribe's sovereign immunity from unconsented suit, claim, or action.

Effective Date

11. This Ordinance shall not be effective until it is certified by the Secretary of the Interior and published in the Federal Register.

CERTIFICATION

The foregoing Ordinance was adopted by a vote of 1 for, and 0 against and 0 abstentions, at a duly called meeting of the Business Committee of the Manchester Band of Pomo Indians of the Manchester Rancheria at which a quorum was present, on this 30th day of May, 2009.

s/Nelson Pinola, Tribal Chair

ATTEST

s/Eloisa Oropeza, Tribal Secretary

[FR Doc. 2010-16999 Filed 7-12-10; 8:45 am]

BILLING CODE 4310-4J-P